DEPARTMENT OF THE INTERIOR

Bureau of Land Management

[OR-130-1020-ML; GP7-0117]

Notice of Public Meeting, Eastern Washington Resource Advisory Council Meeting

AGENCY: Bureau of Land Management, U.S. Department of the Interior.

ACTION: Notice of public meeting.

SUMMARY: In accordance with the Federal Land Policy and Management Act of 1976 and the Federal Advisory Committee Act of 1972, the U.S. Department of the Interior, Bureau of Land Management Eastern Washington Resource Advisory Council will meet as indicated below.

DATES: The Eastern Washington Resource Advisory Council will meet Friday, June 1, 2007 at the Odessa Fire Station, 1 Division St., Odessa, WA, 99159.

SUPPLEMENTARY INFORMATION: The meeting will start at 9 a.m., adjourn at approximately 11 a.m., and will be open to the public. There will be an opportunity for public comments at 9:30 a.m. The Council will discuss proposals for development of motorized routes on public lands in the vicinity of Odessa, WA. After the meeting, the Council will visit the area where these trails are being proposed.

FOR FURTHER INFORMATION CONTACT: Scott Pavey or Sandie Gourdin, Bureau of Land Management, Spokane District Office, 1103 N. Fancher Road, Spokane Valley, WA 99212-1275, or call (509) 536-1200.

Dated: May 2, 2007.
Robert B. Towne,
District Manager.

[FR Doc. E7-8754 Filed 5-7-07; 8:45 am]

BILLING CODE 4310-33-P